ENVIRONMENTAL PROTECTION AGENCY

[EPA-HQ-OPP-2013-0026; FRL-9386-7]

Pesticide Products; Registration Applications for New Active Ingredients

AGENCY: Environmental Protection Agency (EPA).

ACTION: Notice.

SUMMARY: EPA has received several applications to register pesticide products containing active ingredients not included in any currently registered pesticide products. Pursuant to the Federal Insecticide, Fungicide, and Rodenticide Act (FIFRA), EPA is hereby providing notice of receipt and opportunity to comment on these applications.

DATES: Comments must be received on or before June 28, 2013.

ADDRESSES: Submit your comments, identified by docket identification (ID) number and the EPA File Symbol of interest as shown in section II., by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.htm.

Additional instructions on commenting or visiting the docket, along with more information about dockets generally, is available at http://www.epa.gov/dockets.

FOR FURTHER INFORMATION CONTACT: A contact person is listed at the end of each registration application summary and may be contacted by telephone, email, or mail. Mail correspondence to the Biopesticides and Pollution Prevention Division (BPPD) (7511P) or the Registration Division (RD) (7505P), Office of Pesticide Programs, Environmental Protection Agency, 1200 Pennsylvania Ave. NW., Washington, DC 20460-0001. As part of the mailing address, include the contact person's name, division, and mail code.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Registration Applications

EPA has received several applications to register pesticide products containing active ingredients not included in any currently registered pesticide products. Pursuant to the provisions of FIFRA section 3(c)(4), EPA is hereby providing notice of receipt and opportunity to comment on these applications. Notice of receipt of these applications does not imply a decision by the Agency on these applications. For actions being evaluated under the Agency's public participation process for registration actions, there will be an additional opportunity for a 30-day public comment period on the proposed decision. Please see the Agency's public participation Web site for additional information on this process (http://www.epa.gov/pesticides/regulating/registration-public-involvement.html). EPA received the following applications to register pesticide products containing an active ingredient not included in any currently registered products:

1. EPA File Symbol: 264-RRUR. Docket ID Number: EPA-HQ-OPP-2013-0226. Applicant: Bayer CropScience LP, 2 T.W. Alexander Drive, P.O. Box 12014, Research Triangle Park, NC 27709. Active ingredient: Flupyradifurone. Product Type: Insecticide. Proposed Uses: Aspirated grains, fractions; root vegetables, except sugar beets, crop subgroup 1B; tuberous and corm vegetable, crop sub-group 1C; onion, bulb subgroup, crop subgroup 3-07A; onion, green subgroup, crop subgroup 3-07B; leafy vegetables, except Brassica vegetables, crop group 4; taro, leaves; head and stem Brassica, crop subgroup 5A; leafy Brassica, greens, crop sub-group 5B; turnip, greens; edible-podded legume vegetables, crop subgroup 6A; succulent shelled pea and bean, crop subgroup 6B; dried shelled pea and bean, except soybean, crop subgroups 6C; foliage of legume vegetables, including soybeans, crop group 7, forage green vines; foliage of legume vegetables, including soybean, crop group 7, hay; soybean, seed; fruiting vegetables, except cucurbits, crop group 8-10, fruit; tomato, paste; cucurbit vegetables, crop group 9, fruit; citrus fruits, crop group 10-10, fruit; citrus, pulp, dried; pome fruits, crop group 11-10, fruit; bushberry, subgroup, crop subgroup 13-07B; small fruit vine climbing subgroup, except fuzzy kiwifruit, crop subgroup 13-07F; grapes, raisin; low growing berry subgroup, crop subgroup 13-07G; tree nuts, crop group 14, nutmeat; pistachio; tree nut, crop group 14, hulls; grain, cereal, crop group 15, except rice grain; sweet corn, kernels plus cobs with husks removed (K+CWHR); wheat, bran; rice, grain (rotational crop) 4; grain cereal (forage, fodder and straw), group 16, forage; grain cereal (forage, fodder and straw), group 16, hay; grain cereal (forage, fodder and straw), group 16, straw; grain cereal (forage, fodder and straw), group 16, stover; cotton, undelinted seed crop subgroup 20C; cotton, gin by-products; nongrass animal feeds, forage, crop group 18; nongrass animal feeds, hay, crop group 18; coffee, bean, green; coffee, bean, roasted, instant; hops; peanut, hay; peanut, nutmeat; prickly pear cactus, fruit; pitaya, fruit; prickly pear cactus, pads; cattle/goat/hog/horse/sheep, fat; cattle/goat/hog/horse/sheep, meat; cattle/goat/hog/horse/sheep, meat byproducts; milk; poultry, eggs; poultry, meat; and poultry, meat byproducts. Contact: Jessica Rogala, (RD), (703) 347-0263, email address: rogala.jessica@epa.gov.

2. EPA File Symbol: 85354-E. Docket ID Number: EPA-HQ-OPP-2013-0257. Applicant: Technology Sciences Group, Inc., on behalf of Alpha Scents, Inc., 1150 18th Street, NW., Suite 1000, Washington, DC 20036. Active ingredient: (Z,Z)-7,11-Hexadecadienal. Product Type: Pheromone/Mating Disruptor. Proposed Uses: Control of Citrus Leafminer (Phyllocnistis citrella). Contact: Gina Burnett, (BPPD), (703) 605-0513, email address: burnett.gina@epa.gov.

3. EPA File Symbol: 89670-R. Docket ID Number: EPA-HQ-OPP-2013-0261. Applicant: Lodi Group, 7140 Heritage Village Plaza, Gainesville, VA 20155. Active ingredient: Alphachloralose. Product Type: Rodenticide. Proposed Use: For indoor use only on house mice and field mice. Contact: Gene Benbow, (RD), (703) 347-0235, email address: benbow.gene@epa.gov.

4. EPA File Symbol: 89670-E. Docket ID Number: EPA-HQ-OPP-2013-0261. Applicant: Lodi Group, 7140 Heritage Village Plaza, Gainesville, VA 20155. Active ingredient: Alphachloralose. Product Type: Rodenticide. Proposed Use: For formulation use only. Contact: Gene Benbow, (RD), (703) 347-0235, email address: benbow.gene@epa.gov.

5. EPA File Symbols: 38719-I and 38719-O. Docket ID Number: EPA-HQ-OPP-2013-0101. Applicant: Linde Electronics and Specialty Gases, One Greenwich Street, Suite 100, Stewartsville, NJ 08886. Active ingredient: Ethyl Formate. Product Type: Insecticide. Proposed Use: Fumigant on agricultural commodities and indoor bed bug control. Contact: Cheryl Greene, (BPPD), (703) 308-0352, email address: greene.cheryl@epa.gov.

List of Subjects

Environmental protection, Pesticides and pest.

Dated: May 22, 2013.
Lois Rossi,
Director, Registration Division, Office of Pesticide Programs.

[FR Doc. 2013-12703 Filed 5-28-13; 8:45 am]

BILLING CODE 6560-50-P